NUCLEAR REGULATORY COMMISSION

[NRC-2020-0279]

Application and Testing of Safety-Related Diesel Generators in Nuclear Power Plants

AGENCY: Nuclear Regulatory Commission.

ACTION: Draft regulatory guide; request for comment.

SUMMARY: The U.S. Nuclear Regulatory Commission (NRC) is issuing for public comment draft regulatory guide (DG), DG-1303, “Application and Testing of Safety-Related Diesel Generators in Nuclear Power.” This draft guide is proposed revision 5 of Regularity Guide (RG) 1.9. DG-1303 provides updated guidance that the staff of the NRC considers acceptable to demonstrate compliance with the NRC regulations for safety-related alternating current (AC) power supplies intended for use as onsite emergency power sources in nuclear power plants. This revision of RG 1.9 would endorse, with supplements and clarifications, Institute of Electrical and Electronics Engineers (IEEE) Std 387-2017, “IEEE Standard for Criteria for Diesel Generator Units Applied as Standby Power Supplies for Nuclear Power Generating Stations” and IEEE Std 2420-2019, “IEEE Standard for Combustion Turbine Generator Units Applied as Standby Power Supplies for Nuclear Power Generating Stations.” This guidance would help ensure that the standby emergency power supplies are qualified, have sufficient capacity, and have the necessary reliability and availability for design-basis events.

DATES: Submit comments by February 18, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking website: Go to https://www.regulations.gov and search for Docket ID NRC-2020-0279. Address questions about Docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on accessing information and submitting comments, see “Obtaining Information and Submitting Comments” in the SUPPLEMENTARY INFORMATION section of this document.

FOR FURTHER INFORMATION CONTACT: Lilianna Ramadan, telephone: 301-415-2463, email: Liliana.Ramadan@nrc.gov, and Stanley Gardocki, telephone: 301-415-1067, email: Stanley.Gardocki@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2020-0279 when contacting the NRC about the availability of information regarding this action. You may obtain publicly available information related to this action, by any of the following methods:

• Federal Rulemaking Website: Go to https://www.regulations.gov and search for Docket ID NRC-2020-0279.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2020-0279 in your comment submission.

The NRC cautions you not to include identifying or contact information that you do not want to be publicly disclosed in your comment submission. The NRC posts all comment submissions at https://www.regulations.gov/ as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft regulatory guide in the NRC's “Regulatory Guide” series. This series was developed to describe methods that are acceptable to the NRC staff for implementing specific parts of the NRC's regulations, to explain techniques that the staff uses in evaluating specific issues or postulated events, and to describe information that the staff needs in its review of applications for permits and licenses.

This DG titled, “Application and Testing of Safety-Related Diesel Generators in Nuclear Power Plants,” is identified by its temporary task number, DG-1303. The draft guide is proposed revision 5 of RG 1.9 of the same name (ADAMS Accession No. ML14281A071). This DG provides updated guidance for actions and information that is needed for licensees, applicants, and combined operating license (COL) holders to meet the NRC regulations for safety-related standby AC power supplies intended for use as onsite emergency power sources in nuclear power plants. Information provided in this DG may be used by NRC staff, applicants, COLs holders, and licensees. This guidance helps ensure that the emergency standby AC power supplies are qualified, have sufficient capacity, and have the necessary reliability and availability for design-basis events.

The staff is also issuing for public comment a draft regulatory analysis (ADAMS Accession No. ML14297A097). The staff develops a regulatory analysis to assess the value of issuing or revising a regulatory guide as well as alternative courses of action.

III. Backfitting, Forward Fitting, and Issue Finality

DG-1303, if finalized, would revise RG 1.9, revision 4, which describes methods acceptable to the NRC staff for complying with the NRC's regulations for safety-related standby AC power supplies intended for use as onsite emergency power sources in nuclear power plants.

Issuance of DG-1303, if finalized, would not constitute backfitting as defined in section 50.109 of title 10 of the Code of Federal Regulations (10 CFR) 50.109, “Backfitting,” and as described in NRC Management Directive (MD) 8.4, “Management of Backfitting, Forward Fitting, Issue Finality, and Information Requests”; constitute forward fitting as that term is defined and described in MD 8.4; or affect the issue finality of any approval issued under 10 CFR part 52. As explained in DG-1303, applicants and licensees would not be required to comply with the positions set forth in DG-1303.

Dated: January 12, 2021.
For the Nuclear Regulatory Commission.
Meraj Rahimi,
Chief, Regulatory Guidance and Generic Issues Branch, Division of Engineering, Office of Nuclear Regulatory Research.

[FR Doc. 2021-00940 Filed 1-15-21; 8:45 am]

BILLING CODE 7590-01-P